DEPARTMENT OF HOMELAND SECURITY

U.S. Citizenship and Immigration Services

Agency Information Collection Activities: Form I-777, Application for Replacement of Northern Mariana Card

ACTION: Correction to 30-day notice of Information Collection Under Review: Form I-777, Application for Replacement of Northern Mariana Card; OMB Control No. 1615-0042.

* * * * *

On August 26, 2010, USCIS published a 30-day notice in the Federal Register at 75 FR 52540. The 30-day notice contained a spelling error in the title of Form I-777 throughout the document. This notice advises the public that the title of the Form I-777 should read “Application for Replacement of Northern Mariana Card”, instead of “Application for Replacement of Northern Marina Card”.

Written comments and/or suggestions regarding the item(s) contained in the 30-day notice published on August 26, 2010, especially regarding the estimated public burden and associated response time, should be directed to the Department of Homeland Security (DHS), and to the Office of Management and Budget (OMB) USCIS Desk Officer. Comments may be submitted to: USCIS, Chief, Regulatory Products Division, 111 Massachusetts Avenue, Washington, DC 20529-2210. Comments may also be submitted to DHS via facsimile to 202-272-8352 or via e-mail at rfs.regs@dhs.gov, and to the OMB USCIS Desk Officer via facsimile at 202-395-5806 or via e-mail at oira_submission@omb.eop.gov.

When submitting comments by e-mail please make sure to add OMB Control Number 1615-0042 in the subject box.

If you need a copy of the information collection instrument, please visit the Web site at: http://www.regulations.gov.

We may also be contacted at: USCIS, Regulatory Products Division, 111 Massachusetts Avenue, NW., Washington, DC 20529-2210; Telephone 202-272-8377.

Dated: September 14, 2010.
Sunday Aigbe,
Chief, Regulatory Products Division, U.S. Citizenship and Immigration Services, Department of Homeland Security.

[FR Doc. 2010-23344 Filed 9-16-10; 8:45 am]

BILLING CODE 9111-97-P